DEPARTMENT OF HOMELAND SECURITY

Transportation Security Administration

Revision of Agency Information Collection Activity Under OMB Review: Crew Member Self-Defense Training—Registration and Evaluation

AGENCY: Transportation Security Administration, DHS.

ACTION: 30-Day notice.

SUMMARY: This notice announces that the Transportation Security Administration (TSA) has forwarded the Information Collection Request (ICR), Office of Management and Budget (OMB) control number 1652-0028, abstracted below to OMB for review and approval of a revision of the currently approved collection under the Paperwork Reduction Act (PRA). The ICR describes the nature of the information collection and its expected burden. The collection involves requesting information from flight and cabin crew members of air carriers to participate in voluntary advanced self-defense training provided by TSA. Each crew member will also be required to complete an electronic Injury Waiver Form. Additionally, each participant is asked to complete an anonymous course evaluation at the conclusion of the training.

DATES: Send your comments by May 21, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on December 12, 2017, 82 FR 58433.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Crew Member Self-Defense Training—Registration and Evaluation.

Type of Request: Revision of a currently approved collection.

OMB Control Number: 1652-0028.

Forms(s): “Web enabled Registration Form”; “Injury Waiver Form”; “Attendance Roster”; “Electronic Feedback Tab.”

Affected Public: Flight and cabin crew members on passenger and cargo flights.

Abstract: TSA is seeking a revision of the ICR, currently approved under OMB control number 1652-0028, to continue compliance with a statutory mandate. Under 49 U.S.C. 44918(b), TSA is required to develop and provide a voluntary advanced self-defense training program for flight and cabin crew members of U.S. air carriers providing scheduled passenger air transportation.

TSA currently collects biographical information from crew members to confirm their eligibility to participate in this training program and to confirm their attendance. TSA confirms the eligibility of the participant by contacting the participant's employer, and confirms attendance by comparing the registration information against a sign-in sheet provided in the classroom.

TSA is making a number of revisions to this ICR. First, TSA is changing the name of the collection from “Flight Crew Self-Defense Training-Registration and Evaluation” to “Crew Member Self-Defense Training-Registration and Evaluation.” Furthermore, TSA has expanded the program to allow voluntary participation by air carriers providing cargo air transportation. Also, TSA will no longer collect the last four digits of the SSN from crew members and will update the attendance roster to add a “training complete” column and remove the “Day 1-3” and “2nd ID #” columns. In addition, TSA will include an electronic Injury Waiver Form. Finally, TSA will replace the evaluation form with an electronic feedback tab.

Number of Respondents: 3,400.

Estimated Annual Burden Hours: An estimated 595 hours annually.

Dated: April 13, 2018.
Christina A. Walsh,
TSA Paperwork Reduction Act Officer, Office of Information Technology.

[FR Doc. 2018-08162 Filed 4-18-18; 8:45 am]

BILLING CODE 9110-05-P